DEPARTMENT OF COMMERCE

National Oceanic and Atmospheric Administration

[I.D. 090403E]

North Pacific Fishery Management Council; Public Meeting

AGENCY: National Marine Fisheries Service (NMFS), National Oceanic and Atmospheric Administration (NOAA), Commerce.

ACTION: Notice of a public meeting.

SUMMARY: The Pacific Northwest Crab Industry Advisory Committee (PNCIAC) will meet in Seattle, WA.

DATES: The meeting will be held on September 29, 2003, 9am, Building 9, Conference Rooms A & B.

ADDRESSES: The meeting will be held at the Alaska Fisheries Science Center, 7600 Sand Point Way NE, Seattle, WA.

Council address: North Pacific Fishery Management Council, 605 W. 4th Ave., Suite 306, Anchorage, AK 99501-2252.

FOR FURTHER INFORMATION CONTACT: Diana Stram, Council staff, telephone: 907-271-2809.

SUPPLEMENTARY INFORMATION: The committee will meet to: (1) Update PNCIAC bylaws; (2) Discuss recent meeting of the North Pacific Fishery Management Council (NPFMC) Crab Plan Team; (3) Presentation of current opilio crab modeling; (4) Discuss industry partnership with NMFS to improve confidence in the Bering Sea Crab Survey.

NOTE: Because of heightened security measures, NMFS must have a list of non-federal attendees. If you plan to attend this meeting, please contact Committee Chair, Gary Painter: gpainter@actionnet.net to be added to the list.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the NPFMC's intent to take final action to address the emergency.

Special Accommodations

These meetings are physically accessible to people with disabilities. Requests for sign language interpretation or other auxiliary aids should be directed to Gail Bendixen at 907-271-2809 at least 7 working days prior to the meeting date.

Dated: September 9, 2003.Richard W. Surdi,Acting Director, Office of Sustainable Fisheries, National Marine Fisheries Service.

[FR Doc. 03-23435 Filed 9-12-03; 8:45 am]

BILLING CODE 3510-22-S